PENSION BENEFIT GUARANTY CORPORATION

Notice of Extension of Comment Period for Draft Information Quality Guidelines

AGENCY: Pension Benefit Guaranty Corporation.

ACTION: Notice.

SUMMARY: On May 1, 2002, the Pension Benefit Guaranty Corporation (PBGC) published a notice in the Federal Register (67 FR 21779) announcing the availability of its draft information quality guidelines on the PBGC's Web site (http://www.pbgc.gov), and inviting public comments on the draft guidelines by May 31, 2002. This notice announces an extension of the May 31, 2002, comment deadline to June 30, 2002.

DATES: Comments must be received on or before June 30, 2002.

ADDRESSES: Comments may be mailed to the Office of the General Counsel, Pension Benefit Guaranty Corporation, 1200 K Street, NW., Washington, DC 20005-4026, or delivered to Suite 340 at the above address. Comments also may be sent by Internet e-mail to reg.comments@pbgc.gov. Copies of comments may be obtained by writing the PBGC's Communications and Public Affairs Department (CPAD) at Suite 240 at the above address or by visiting or calling CPAD during normal business hours (202-326-4040).

FOR FURTHER INFORMATION CONTACT: Harold J. Ashner, Assistant General Counsel, or James L. Beller, Attorney, Office of the General Counsel, Pension Benefit Guaranty Corporation, 1200 K Street, NW., Washington, DC 20005, 202-326-4024. (TTY/TDD users may call the Federal relay service toll-free at 1-800-877-8339 and ask to be connected to 202-326-4024.)

SUPPLEMENTARY INFORMATION: On February 22, 2002, the Office of Management and Budget (OMB) published “Guidelines for Ensuring and Maximizing the Quality, Objectivity, Utility, and Integrity of Information Disseminated by Federal Agencies; Republication” in the Federal Register (67 FR 8452). In accordance with these OMB guidelines, the PBGC posted draft information quality guidelines on its Web site and, in a Federal Register notice (67 FR 21779, May 1, 2002), announced the availability of those draft guidelines and invited public comment by May 31, 2002.

Under OMB guidelines, agencies were to consider any public comments, make appropriate revisions, and submit draft information quality guidelines for OMB review no later than July 1, 2002. In response to public requests to some agencies to extend their comment deadline, OMB has informed the PBGC that it intends to extend the deadline for agencies to submit their draft guidelines for OMB review to August 1, 2002. Consistent with OMB's extension, the PBGC is extending the May 31, 2002, comment deadline to June 30, 2002.

Issued in Washington, DC, on this 6th day of June, 2002.
Steven A. Kandarian,
Executive Director, Pension Benefit Guaranty Corporation.

[FR Doc. 02-14658 Filed 6-10-02; 8:45 am]

BILLING CODE 7708-01-P